DEPARTMENT OF HEALTH AND HUMAN SERVICES

Centers for Disease Control and Prevention

Board of Scientific Counselors, Office of Public Health Preparedness and Response (BSC, OPHPR); Correction

Notice is hereby given of a change in the meeting of the Board of Scientific Counselors, Office of Public Health Preparedness and Response (BSC, OPHPR); April 24 2019, 10:30 a.m. to 5:00 p.m., EDT; April 25, 2019, 8:30 a.m. to 3:00 p.m., EDT which was published in the Federal Register on March 15, 2019 Volume 84, Number 51, pages 9525.

The meeting date, time, and agenda should read as follows: This is a one day meeting on April 24, 2019, 8:30 a.m. to 4:00 p.m. EDT.

Matters To Be Considered: The agenda will include: (1) OPHPR Updates from Director, (2) OPHPR Interval Updates from Division Directors, (3) Report from the Biological Agent Containment Working Group (BACWG), (4) Update on the response to the Ebola outbreak in the Democratic Republic of Congo (DRC).

FOR FURTHER INFORMATION CONTACT: Dometa Ouisley, Office of Science and Public Health Practice, Centers for Disease Control and Prevention, 1600 Clifton Road NE, Mailstop D-44, Atlanta, Georgia 30329, Telephone: (404) 639-7450; Fax: (404) 471-8772; Email: OPHPR.BSC.Questions@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-10871 Filed 5-23-19; 8:45 am]

BILLING CODE 4163-18-P